DEPARTMENT OF ENERGY

Federal Energy Regulatory Commission

Combined Notice of Filings

December 2, 2009.

Take notice that the Commission has received the following Natural Gas Pipeline Rate and Refund Report filings:

Docket Numbers: RP10-197-000.

Applicants: Statoil Natural Gas LLC, Gazprom Marketing & Trading USA, Inc.

Description: Petition for Waiver of Statoil Natural Gas LLC and Gazprom Marketing & Trading USA, Inc.

Filed Date: 12/01/2009.

Accession Number: 20091201-5099.

Comment Date: 5 p.m. Eastern Time on Monday, December 14, 2009.

Docket Numbers: RP10-198-000.

Applicants: Columbia Gas Transmission, LLC.

Description: Columbia Gas Transmission LLC submits Second Revised Sheet No. 137 to FERC Gas Tariff, Third Revised Volume No. 1.

Filed Date: 12/01/2009.

Accession Number: 20091201-0067.

Comment Date: 5 p.m. Eastern Time on Monday, December 14, 2009.

Docket Numbers: RP10-199-000.

Applicants: MarkWest Pioneer, L.L.C.

Description: MarkWest Pioneer, LLC submits Second Revised Sheet No. 5 to FERC Gas Tariff, Original Volume No. 1.

Filed Date: 12/01/2009.

Accession Number: 20091201-0066.

Comment Date: 5 p.m. Eastern Time on Monday, December 14, 2009.

Docket Numbers: RP10-200-000.

Applicants: Natural Gas Pipeline Company of America.

Description: Natural Gas Pipeline Company of America submits Third Revised Sheet No. 34C et al to FERC Gas Tariff, Seventh Revised Volume No. 1.

Filed Date: 12/01/2009.

Accession Number: 20091201-0065.

Comment Date: 5 p.m. Eastern Time on Monday, December 14, 2009.

Docket Numbers: RP10-201-000.

Applicants: Rockies Express Pipeline LLC.

Description: Rockies Express Pipeline LLC request that FERC grant limited waivers of the filing requirements of Part 154.

Filed Date: 12/01/2009.

Accession Number: 20091201-0064.

Comment Date: 5 p.m. Eastern Time on Monday, December 14, 2009.

Docket Numbers: RP10-202-000.

Applicants: Texas Gas Transmission, LLC.

Description: Texas Gas Transmission LLC submits Fourth Revised Sheet No. 37 to FERC Gas Tariff, Third Revised Volume No. 1.

Filed Date: 12/01/2009.

Accession Number: 20091201-0063.

Comment Date: 5 p.m. Eastern Time on Monday, December 14, 2009.

Docket Numbers: RP10-203-000.

Applicants: Questar Overthrust Pipeline Company.

Description: Questar Overthrust Pipeline Co submits First Revised Sheet No. 51 et al to FERC Gas Tariff, First Revised Volume No. 1.

Filed Date: 12/01/2009.

Accession Number: 20091201-0062.

Comment Date: 5 p.m. Eastern Time on Monday, December 14, 2009.

Docket Numbers: RP10-204-000.

Applicants: Viking Gas Transmission Company.

Description: Viking Gas Transmission Company submits Ninth Revised Sheet No. 51 et al to FERC Gas Tariff, First Revised Volume No. 1.

Filed Date: 12/01/2009.

Accession Number: 20091201-0061.

Comment Date: 5 p.m. Eastern Time on Monday, December 14, 2009.

Docket Numbers: RP10-205-000.

Applicants: OkTex Pipeline Company, L.L.C.

Description: OkTex Pipeline Company, L.L.C submits for filing Sixth Revised Sheet 1 et al to its FERC Gas Tariff, Original Revised Volume 1, to be effective 2/1/10.

Filed Date: 12/01/2009.

Accession Number: 20091202-0045.

Comment Date: 5 p.m. Eastern Time on Monday, December 14, 2009.

Docket Numbers: RP10-206-000.

Applicants: CenterPoint Energy Gas Transmission Co.

Description: CenterPoint Energy Gas Transmission Company submits Eighth Revised Sheet No 1 et al to FERC Gas Tariff, Sixth Revised Volume No 1, to be effective 1/1/10.

Filed Date: 12/01/2009.

Accession Number: 20091202-0046.

Comment Date: 5 p.m. Eastern Time on Monday, December 14, 2009.

Docket Numbers: RP10-207-000.

Applicants: Guardian Pipeline, LLC.

Description: Guardian Pipeline, LLC tenders for filing Thirteenth Sheet 6 et al. to its FERC Gas Tariff, Original Volume 1, to be effective 1/1/10.

Filed Date: 12/01/2009.

Accession Number: 20091202-0044.

Comment Date: 5 p.m. Eastern Time on Monday, December 14, 2009.

Docket Numbers: RP10-208-000.

Applicants: Midwestern Gas Transmission Company.

Description: Midwestern Gas Transmission Company submits First Revised Sheet 219A et al to its FERC Gas Tariff, Third Revised Volume 1, to be effective 2/1/10.

Filed Date: 12/01/2009.

Accession Number: 20091202-0043.

Comment Date: 5 p.m. Eastern Time on Monday, December 14, 2009.

Docket Numbers: RP10-209-000.

Applicants: Northern Natural Gas Company.

Description: Northern Natural Gas Company submits for filing Fourth Revised Sheet 66B.35 to its FERC Gas Tariff, Fifth Revised Volume 1, to be effective 12/2/09.

Filed Date: 12/01/2009.

Accession Number: 20091202-0042.

Comment Date: 5 p.m. Eastern Time on Monday, December 14, 2009.

Docket Numbers: RP10-210-000.

Applicants: Kern River Gas Transmission Company.

Description: Kern River Gas Transmission Company submits First Revised Second Revised Twentieth Revised Sheet 5 to its FERC Gas Tariff, Second Revised Volume 1, to be effective 1/1/10.

Filed Date: 12/01/2009.

Accession Number: 20091202-0041.

Comment Date: 5 p.m. Eastern Time on Monday, December 14, 2009.

Docket Numbers: RP10-211-000.

Applicants: ANR Pipeline Company.

Description: ANR Pipeline Company submits Rate Schedule FSS negotiated rate agreement with Intergrys Energy Services, Inc etc to be effective 12/1/09.

Filed Date: 12/01/2009.

Accession Number: 20091202-0040.

Comment Date: 5 p.m. Eastern Time on Monday, December 14, 2009.

Docket Numbers: RP10-212-000.

Applicants: Guardian Pipeline, LLC.

Description: Guardian Pipeline, LLC submits First Revised Sheet 114A et al of its FERC Gas Tariff, Original Volume 1 to be effective 2/1/10.

Filed Date: 12/01/2009.

Accession Number: 20091202-0039.

Comment Date: 5 p.m. Eastern Time on Monday, December 14, 2009.

Docket Numbers: RP10-213-000.

Applicants: WTG Hugoton, LP.

Description: WTG Hugoton, LP submits Third Revised Sheet 5 to FERC Gas Tariff to FERC Gas Tariff, Original Volume 1 to reflect its Fuel Retention Percentages applicable to transportation service provided etc, effective 1/1/10.

Filed Date: 12/01/2009.

Accession Number: 20091202-0038.

Comment Date: 5 p.m. Eastern Time on Monday, December 14, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-29665 Filed 12-11-09; 8:45 am]

BILLING CODE 6717-01-P